Title 3—

The President

Proclamation 7971 of December 22, 2005

To Implement the United States-Morocco Free Trade Agreement

By the President of the United States of America

A Proclamation

1. On June 15, 2004, the United States entered into the United States-Morocco Free Trade Agreement (USMFTA). The USMFTA was approved by the Congress in section 101(a) of the United States-Morocco Free Trade Agreement Implementation Act (the “USMFTA Act”) (Public Law 108-302, 118 Stat. 1103) (19 U.S.C. 3805 note).

2. Section 105(a) of the USMFTA Act authorizes the President to establish or designate within the Department of Commerce an office that shall be responsible for providing administrative assistance to panels established under Chapter 20 of the USMFTA.

3. Section 201 of the USMFTA Act authorizes the President to proclaim such modifications or continuation of any duty, such continuation of duty-free or excise treatment, or such additional duties as the President determines to be necessary or appropriate to carry out or apply Articles 2.3, 2.5, 2.6, 4.1, 4.3.9, 4.3.10, 4.3.11, 4.3.13, 4.3.14, and 4.3.15, and the schedule of reductions with respect to Morocco set forth in Annex IV of the USMFTA.

4. Consistent with section 201(a)(2) of the USMFTA Act, Morocco is to be removed from the enumeration of designated beneficiary developing countries eligible for the benefits of the Generalized System of Preferences (GSP). Further, consistent with section 604 of the Trade Act of 1974 (the “1974 Act”) (19 U.S.C. 2483), as amended, I have determined that other technical and conforming changes to the Harmonized Tariff Schedule of the United States (HTS) are necessary to reflect that Morocco is no longer eligible to receive benefits of the GSP.

5. Section 203 of the USMFTA Act provides certain rules for determining whether a good is an originating good for the purposes of implementing preferential tariff treatment under the USMFTA. I have decided that it is necessary to include these rules of origin, together with particular rules applicable to certain other goods, in the HTS.

6. Section 204 of the USMFTA Act authorizes the President to take certain enforcement actions relating to trade with Morocco in textile and apparel goods.

7. Subtitle B of title III of the USMFTA Act authorizes the President to take certain actions in response to a request by an interested party for relief from serious damage or actual threat thereof to a domestic industry producing certain textile or apparel articles.

8. Executive Order 11651, as amended, establishes the Committee for the Implementation of Textile Agreements (CITA) to supervise the implementation of textile trade agreements.

9. Section 604 of the 1974 Act, as amended, authorizes the President to embody in the HTS the substance of relevant provisions of that Act, or other acts affecting import treatment, and of actions taken thereunder.

NOW, THEREFORE, I, GEORGE W. BUSH, President of the United States of America, acting under authority vested in me by the Constitution and the laws of the United States of America, including but not limited to sections 201, 203, 204, and 321-328 of the USMFTA Act, section 301 of title 3, United States Code, and section 604 of the 1974 Act, do proclaim that:

(1) In order to provide generally for the preferential tariff treatment being accorded under the USMFTA, to set forth rules for determining whether goods imported into the customs territory of the United States are eligible for preferential tariff treatment under the USMFTA, to provide certain other treatment to originating goods for the purposes of the USMFTA, to provide tariff-rate quotas with respect to certain originating goods, to reflect Morocco's removal from the enumeration of designated beneficiary developing countries for purposes of the GSP, and to make technical and conforming changes in the general notes to the HTS, the HTS is modified as set forth in Annex I of Publication No. 3721 of the United States International Trade Commission, entitled “Modifications to the Harmonized Tariff Schedule of the United States Implementing the United States-Morocco Free Trade Agreement” (Publication 3721), which is incorporated by reference into this proclamation.

(2) In order to implement the initial stage of duty elimination provided for in the USMFTA, and to provide for future staged reductions in duties for products of Morocco for purposes of the USMFTA, the HTS is modified as provided in Annex II of Publication 3721, effective on the dates specified in the relevant sections of such publication and on any subsequent dates set forth for such duty reductions in that publication.

(3) The Secretary of Commerce is authorized to exercise my authority under section 105(a) of the USMFTA Act to establish or designate an office within the Department of Commerce to carry out the functions set forth in that section.

(4) (a) The amendments to the HTS made by paragraphs (1) and (2) of this proclamation shall be effective with respect to goods entered, or withdrawn from warehouse for consumption, on or after the relevant dates indicated in Annex II to Publication 3721.

(b) Except as provided in paragraph 4(a) of this proclamation, this proclamation shall be effective with respect to goods entered, or withdrawn from warehouse for consumption, on or after January 1, 2006.

(5) The CITA is authorized to exercise my authority under section 204 of the USMFTA Act to exclude textile and apparel goods from the customs territory of the United States; to determine whether an enterprise's production of, and capability to produce, goods are consistent with statements by the enterprise; to find that an enterprise has knowingly or willfully engaged in circumvention; and to deny preferential tariff treatment to textile and apparel goods.

(6) The CITA is authorized to exercise my authority under subtitle B of title III of the USMFTA Act to review requests, and to determine whether to commence consideration of such requests; to cause to be published in the Federal Register a notice of commencement of consideration of a request and notice seeking public comment; to determine whether imports of a Moroccan textile or apparel article are causing serious damage, or actual threat thereof, to a domestic industry producing an article that is like, or directly competitive with, the imported article; and to provide relief from imports of an article that is the subject of such a determination.

(7) Any provisions of previous proclamations and Executive Orders that are inconsistent with the actions taken in this proclamation are superseded to the extent of such inconsistency.

IN WITNESS WHEREOF, I have hereunto set my hand this twenty-second day of December, in the year of our Lord two thousand five, and of the Independence of the United States of America the two hundred and thirtieth.

B

[FR Doc. 05-24595

Filed 12-23-05; 12:29 pm]

Billing code 3195-01-P